DEPARTMENT OF TRANSPORTATION

Federal Aviation Administration

14 CFR Part 39

[Docket No. 2000-NM-247-AD; Amendment 39-12572; AD 2001-26-08]

RIN 2120-AA64

Airworthiness Directives; Airbus Model A300 B2 Series Airplanes and Model A300 B4-2C, B4-103, and B4-203 Series Airplanes

AGENCY: Federal Aviation Administration, DOT.

ACTION: Final rule.

SUMMARY: This amendment adopts a new airworthiness directive (AD), applicable to all Airbus Model A300 B2 series airplanes and Model A300 B4-2C, B4-103, and B4-203 series airplanes, that requires identifying the types and areas of repairs on the airplane between frame 10 and frame 80, and performing follow-on actions for certain repairs. These actions are necessary to detect and correct fatigue cracking of certain repairs of the fuselage between frame 10 and frame 80, which could result in reduced structural integrity of the airplane. These actions are intended to address the identified unsafe condition.

DATES: Effective January 31, 2002.

The incorporation by reference of certain publications listed in the regulations is approved by the Director of the Federal Register as of January 31, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to all Airbus Model A300 B2 and B4 series airplanes was published in the Federal Register on August 28, 2001 (66 FR 45192). That action proposed to require identifying the types and areas of repairs on the airplane between frame 10 and frame 80, and performing follow-on actions for certain repairs.

Comments

Interested persons have been afforded an opportunity to participate in the making of this amendment. Due consideration has been given to the comments received.

Revise Applicability Statement of Proposed AD

One commenter requests that the FAA revise the applicability statement of the proposed AD to exclude Model A300 B4-600 series airplanes. The commenter states that this is an appropriate change because French airworthiness directive 2000-261-312(B), dated June 28, 2000 (which is the French airworthiness directive corresponding to the proposed AD), and Airbus Service Bulletin A300-53-0313, Revision 01, dated April 27, 1999 (which the proposed AD refers to as the appropriate source of service information for certain actions therein), do not apply to Model A300 B4-600 series airplanes.

We concur with the commenter's request. We do not intend this AD to apply to Model A300 B4-600 series airplanes. However, based on the commenter's request, we recognize that the identification of the affected airplanes models in the proposed rule could potentially confuse some owner/operators. Therefore, we have revised the applicability statement of this AD, as well as the title and summary sections in the preamble of this AD, to clarify that this AD applies to all Airbus Model A300 B2 series airplanes and Model A300 B4-2C, B4-103, and B4-203 series airplanes.

Request To Provide for Modified Airplanes

One commenter, a supplemental type certificate (STC) holder, requests that we provide a different follow-on action for airplanes that have been converted from passenger airplanes to freighters according to a specific STC. The commenter explains that such conversion results in increased loads on certain fuselage skin panels on the airplane. The commenter states that, if an operator of a converted airplane identifies an existing repair that is subject to this AD on one of the fuselage skin panels affected by the conversion, the operator should contact the STC holder for assistance in evaluating the repair.

We do not concur that any change is necessary in this regard, though we do concur that the operator should contact the STC holder for assistance in evaluating the repair. Note 1 of this AD specifies that, if an airplane has been modified in such a way that the AD requirements have been affected, the owner/operator must request approval of an alternative method of compliance in accordance with paragraph (d) of this AD. This provision would apply to airplanes modified per the commenter's STC.

Conclusion

After careful review of the available data, including the comments noted above, the FAA has determined that air safety and the public interest require the adoption of the rule with the change described previously. The FAA has determined that this change will neither increase the economic burden on any operator nor increase the scope of the AD.

Cost Impact

The FAA estimates that 13 airplanes of U.S. registry will be affected by this AD, that it will take approximately 2 work hours per airplane to accomplish the required actions, and that the average labor rate is $60 per work hour. Based on these figures, the cost impact of this AD on U.S. operators is estimated to be $1,560, or $120 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-26-08 Airbus: Amendment 39-12572. Docket 2000-NM-247-AD.

Applicability: All Model A300 B2 series airplanes and Model A300 B4-2C, B4-103, and B4-203 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To detect and correct fatigue cracking of certain repairs of the fuselage between frame 10 and frame 80, which could result in reduced structural integrity of the airplane, accomplish the following:

Identification of Repairs

(a) Before 10,000 total landings, or before 2,500 landings after the effective date of this AD, whichever occurs later: Identify the types and areas of repairs on the airplane between frame 10 and frame 80, as specified in Airbus Service Bulletin A300-53-0313, Revision 01, dated April 27, 1999. Do the actions per the Accomplishment Instructions of the service bulletin. If none of the repairs specified in the service bulletin are found, no additional action is needed under this AD.

Follow-On Actions

(b) If, during the inspection, any repair is found that meets the criteria specified in Airbus Service Bulletin A300-53-0313, Revision 01, dated April 27, 1999: Do either an eddy current or ultrasonic inspection, depending on the type of repair found, to detect cracking of the applicable area identified in Flow Chart 1, Figure 1, Sheet 1, of the service bulletin. Do the inspection at the time and in the manner specified in the service bulletin. Based on the results of the inspection, take the actions shown in the following table:

Table 1.—Follow-On Actions
If the following is found: | Then— | Per this schedule:
(1) No cracking | Repeat the inspection | At least every 2,500 landings.
(2) Any cracking | Replace the repair per a method approved by either the Manager, International Branch, ANM-116, FAA, Transport Airplane Directorate, or the Direction Générale de l'Aviation Civile (DGAC) (or its delegated agent) | Before further flight.

Terminating Action

(c) Replacement of a repair that is specified in Airbus Service Bulletin A300-53-0313, Revision 01, dated April 27, 1999, per a method approved by either the Manager, International Branch, ANM-116, or the DGAC (or its delegated agent), terminates the requirements of this AD.

Alternative Methods of Compliance

(d) An alternative method of compliance or adjustment of the compliance time that provides an acceptable level of safety may be used if approved by the Manager, International Branch, ANM-116. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) Except as provided in Table 1 and paragraph (c) of this AD, the actions shall be done in accordance with Airbus Service Bulletin A300-53-0313, Revision 01, dated April 27, 1999. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2000-261-312(B), dated June 28, 2000.

Effective Date

(g) This amendment becomes effective on January 31, 2002.

Issued in Renton, Washington, on December 14, 2001.
Kalene C. Yanamura,
Acting Manager, Transport Airplane Directorate, Aircraft Certification Service.

[FR Doc. 01-31428 Filed 12-26-01; 8:45 am]

BILLING CODE 4910-13-P